ENVIRONMENTAL PROTECTION AGENCY

[Regional Docket No. II-2005-07; FRL-8701-3]

Clean Air Act Operating Permit Program—Petition for Objection to State Operating Permit for Pouch Terminal Plant

AGENCY: Environmental Protection Agency (EPA).

ACTION: Notice of final decision concerning State operating permit.

SUMMARY: This document announces the EPA Administrator's decision, responding to a petition submitted by the office of James P. Molinaro, President of the Borough of Staten Island, New York, requesting that EPA object to an operating permit issued by the New York State Department of Environmental Conservation (NYSDEC) to the New York Power Authority's Pouch Terminal plant. The petition, requesting an objection to the issuance of the Pouch Terminal title V permit is denied.

Pursuant to section 505(b)(2) of the Clean Air Act (Act), Petitioner may seek judicial review of any portions of the petition which EPA denied, in the United States Court of Appeals for the appropriate circuit. Any petition for review shall be filed within 60 days from the date this notice appears in the Federal Register, pursuant to section 307 of the Act.

ADDRESSES: You may review copies of the final order, the petition, and all relevant information at the EPA Region 2 Office, 290 Broadway, New York, New York 10007-1866. If you wish to examine these documents, you should make an appointment at least 24 hours before visiting day. Additionally, the final order for the Pouch Terminal plant is available electronically at: http://www.epa.gov/region07/programs/artd/air/title5/petitiondb/petitiondb2002.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

On October 26, 2005, the EPA received a petition from the office of James P. Molinaro, President of the Borough of Staten Island, New York, requesting that EPA object to the issuance of the title V operating permit for the Pouch Terminal facility based on the following allegations: (1) NYPA performed an environmental impact statement (EIS) for the site only because a lawsuit was brought against it by the community, and ignored the Sun Chemical company in performing the EIS; (2) statements made by applicant, regarding the facility's projected hours of operation, are conflicting; (3) NOX and CO emission limits originally pledged by NYPA are absent in the permit; (4) the public was not informed of the facility's documented air emission violations until after the public hearing; (5) amendment of the title V application to include “less restrictive” air emissions limitations was effected without any public involvement, and enforcement action against the facility, through two consent orders, involved no public participation; (6) DEC ignored the known industry fact that startups and shutdowns are the worst case situations; (7) acknowledgment by DEC of the facility's air emissions violations was due to the fact that this information was about to be divulged in the newspaper; (8) eighteen months passed before a DEC enforcement action was instituted for the violations to the facility's operating air permit; (9) the community living across the street from the plant should receive any and all information on environmental violations occurring at the facility; (10) in response to the facility's 18-month violations, NYPA provided no explanation why it stated “No Action is Needed”; (11) the air emissions under the proposed draft title V permit were less stringent than those under the state facility air permit; (12) it took a long time, 22 months, following the public hearing/comment period, before DEC released its Responsiveness Summary; and (13) DEC allowed more than 18 months, too long a time span, for the “shakedown” period. The Petitioner has requested that EPA object to the issuance of the Pouch Terminal permit, pursuant to CAA section 505(b)(2) and 40 CFR 70.8(d), for any or all of the above reasons.

On June 23, 2008, the Administrator issued an order denying the petition on the Pouch Terminal plant. The order explains EPA's reasons for denying petitioner's claims.

Dated: July 25, 2008.
Alan J. Steinberg,
Regional Administrator, Region 2.

[FR Doc. E8-18141 Filed 8-5-08; 8:45 am]

BILLING CODE 6560-50-P